DEPARTMENT OF THE INTERIOR

National Park Service

National Register of Historic Places; Notification of Pending Nominations

Nominations for the following properties being considered for listing in the National Register were received by the National Park Service before November 25, 2000. Pursuant to § 60.13 of 36 CFR part 60 written comments concerning the significance of these properties under the National Register criteria for evaluation may be forwarded to the National Register, National Park Service, 1849 C St. NW, NC400, Washington, DC 20240. Written comments should be submitted by December 21, 2000.

Carol D. Shull,
Keeper of the National Register.

Arkansas

Dallas County

Marianna Commercial Historic District, (Civil War Commemorative Sculpture MPS), Portions of Chestnut, Liberty, East Columbia, Mississippi, Poplar, Main, Court and Church Sts., Marianna, 00001559

California

Los Angeles County

Cooper Arms, 455 E. Ocean Blvd., Long Beach, 00001538

Connecticut

Litchfield County

Bryan, Roderick, House, 867 Linkfield Rd., Watertown, 00001563

Middlesex County

Villa Bella Vista, 7 Old Depot Rd., Chester, 00001560

New Haven County

Burgis II, Thomas, House, 85 Boston St., Guilford, 00001562

New London County

Brewster Homestead, 306 Preston Rd., Griswold, 00001561

Florida

Lee County

Whidden's Marina, (Lee County MPS) 190 First St. E, Boca Grande, 00001539

Georgia

Toombs County

Garbutt, Robert and Missouri, House, 700 W. Liberty St., Lyons, 00001564

Indiana

Clark County

Work, John, House and Mill Site, Address Restricted, Charlestown, 00001546

Dearborn County

Vance—Tousey House, 508 W. High St., Lawrenceburg, 00001547

Decatur County

Harris, Bright B., House, 413 N. Franklin St., Greensburg, 00001545

Jefferson County

St. Stephen's African Methodist Episcopal Church, 220 W. Main St., Hanover, 00001544

Lake County

Monon Park Dancing Pavillion, 13701 Lauerman St., Cedar Lake, 00001540

Morgan County

Lamb's Creek Bridge, Jct. of Lamb's Creek and Old IN 67 W, Martinsville, 00001541

Rush County

Rush County Bridge No. 188, Cty. Rd. 150 W over Little Flatrock River, Milroy, 00001542

St. Joseph County

Muessel—Drewry's Brewery, 1408 Elwood Ave., South Bend, 00001543

Missouri

Jackson County

Crossroads Historic Freight District, (Railroad Related Historic Commercial and Industrial Resources in Kansas City, Missouri MPS)

Roughly bounded by Southwest Blvd., W. 20th St., Baltimore Ave., W 22nd St., and Broadway, Kansas City, 00001565

Madison County

Madison County Courthouse, 1 Courthouse Sq., Fredericktown, 00001548

Scott County

Sikeston St. Louis, Iron Mountain and Southern Railway Depot, Front St., bet. Scott and New Madrid Sts., Sikeston, 00001549

St. Louis Independent City

Buehler, William, House, 2610 Tennessee Ave., St. Louis (Independent City), 00001550

Montana

Cascade County

Masonic Temple, 821 Central Ave., Great Falls, 00001568

Gallatin County

Methodist Episcopal Church, 116 Cedar St., Third Forks, 00001566

Golden Valley County

Slayton Mercantile Co., 23 Main St., Lavina, 00001567

New York

Columbia County

Columbia Turnpike—West Tollhouse, NY 23B, Greenport, 00001571

North Carolina

Avery County Linville Falls Tavern, (former), 25 Rock House Ln., Linville Falls, 00001554

Brunswick County

Oak Island Life Saving Station, 217 Caswell Beach Rd., Caswell Beach, 00001553

Forsyth County

Middleton House, 2721 Robinhood Rd., Winston-Salem, 00001552

Lee County

Lee County Training School, (Lee County MPS) 806 S. Vance St., Sanford, 00001551

Macon County

Cowes-West's Mill Historic District, (Macon County MPS) Address Restricted, Franklin, 00001569

Wake County

Mordecai Place Historic District (Boundary Increase), 208 Delway St., Raleigh, 00001570

Ohio

Clark County

Tecumseh Building, 34 W. High St., Springfield, 00001555

Cuyahoga County

Shaker Village Historic District (Boundary Increase), Roughly bounded by Lomond Blvd., Lytel Rd., Scottsdale Blvd., and Lindholm Rd., Shaker Heights, 00001557

Summit County

Ozmun, Isaac and Maria, Farmstead, 6928 Olde Eight Rd., Boston Heights, 00001556

Oklahoma

Cleveland County

Cleveland County Courthouse, 200 S. Peters Ave., Norman, 00001580

Norman City Park New Deal Resources, Jct. of Daws St. and Webster Ave., Norman, 00001572

Norman Public Library, 329 S. Peters Ave., Norman, 00001581

United States Post Office—Norman, 207 E. Gray St., Norman, 00001573

Oklahoma

Grady County

Chickasha Milling Company Elevator, (Grain Storage and Processing Facilities in Western Oklahoma MPS) 100 Choctaw Ave., Chickasha, 00001574

Lincoln County

Mensch, William Alfred, Building, 218 W. Main St., Stroud, 00001576

Pawnee County

Pawnee Agency and Boarding School Historic District, Pawnee Tribal Reserve, E of Pawnee, roughly bounded by Morris Rd., following Harrison St. and Agency Rd., Pawnee, 00001577

Payne County

Perkins Downtown Historic District, 100 Blk. of Main St. bounded by Stumbo and Thomas Sts., Perkins, 00001578

Pottawatomie County

Bell Street Historic District, Along N. Bell St., from East Ninth to East Main, Shawnee, 00001579

Texas

Denton County

Denton County Courthouse Square Historic District, (Denton, Texas MPS) Area bounded by Pecan, Austin, Walnut, and Cedar Sts., Denton, 00001582

Utah

Box Elder County

Glover, William and Nettie, House, (Brigham City MPS) 106 West 100 North, Brigham, 00001587

Jenson, Nels and Minnie, House, (Brigham City MPS) 136 East 100 South, Brigham City, 00001588

Knudson, Jonathan and Jennie, House, (Brigham City MPS) 48 South 100 East, Brigham City, 00001583

Rich County

Woodruff Stake House, (Tithing Offices and Granaries of the Mormon Church TR) 50 South Main, Woodruff, 00001586

Salt Lake County

Sweet Candy Company Building, (Salt Lake City Business District MRA) 224 South 200 West, Salt Lake City, 00001584

Webster School, 2700 South 9180 West, Magna, 00001585

Wisconsin

Milwaukee County

West Side Commercial Historic District, Roughly, W. Wisconsin Ave., N. Third St., N. Plankinton Ave., and N. Second Ave., Milwaukee, 00001590

Ozaukee County

Day, Isham, House, 11312 N. Cedarburg Rd., Mequon, 00001558

Wyoming

Fremont County

Wind River Agency Blockhouse, Address Restricted, Ft. Washakie, 00001589

A request for REMOVAL has been made for the following Resource:

South Dakota

McPherson County

Eureka Lutheran College 301 4th St. Eureka, 90001643

[FR Doc. 00-30996 Filed 12-5-00; 8:45 am]

BILLING CODE 4310-70-P